DEPARTMENT OF THE TREASURY

Internal Revenue Service

Open Meeting of the Area 6 Committee of the Taxpayer Advocacy Panel

AGENCY: Internal Revenue Service (IRS) Treasury.

ACTION: Notice.

SUMMARY: An open meeting of the Area 6 Committee of the Taxpayer Advocacy Panel will be conducted. The Taxpayer Advocacy Panel (TAP) is soliciting public comments, ideas, and suggestions on improving customer service at the Internal Revenue Service. The TAP will use citizen input to make recommendations to the Internal Revenue Service.

DATES: The meeting will be held Friday, June 18, and Saturday, June 19, 2004.

FOR FURTHER INFORMATION CONTACT: Judi L. Nicholas at 1-888-912-1227, or 206-220-6096.

SUPPLEMENTARY INFORMATION: Notice is hereby given pursuant to section 10(a)(2) of the Federal Advisory Committee Act, 5 U.S.C. App. (1988) that an open meeting of the Area 6 Committee of the Taxpayer Advocacy Panel will be held Friday, June 18, 2004 from 1 p.m. P.s.t. to 4 p.m. P.s.t. and Saturday, June 19, 2004 from 8:30 a.m. P.s.t. to 4:30 p.m. P.s.t. at 1401 SW., Natio Parkway, Portland, Or 97201. If you would like to have the TAP consider a written statement, please call 1-888-912-1227 or 206-220-6096, or write to Judi L. Nicholas, TAP Office, 915 Second Avenue MS W-406, Seattle, WA 98174. Due to limited space, notification of intent to participate in the meeting must be made with Judi L. Nicholas. Ms. Nicholas can be reached at 1-888-912-1227 or 206-220-6096.

The agenda will include the following: Various IRS issues.

Dated: May 17, 2004.
Bernard Coston,
Director, Taxpayer Advocacy Panel.

[FR Doc. 04-11446 Filed 5-19-04; 8:45 am]

BILLING CODE 4830-01-P